FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Reports of Deposits (FR 2900, FR 2915; OMB No. 7100-0087).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, Without Revision, of the Following Information Collection

Collection title: Reports of Deposits.

Collection identifier: FR 2900, FR 2915.

OMB control number: 7100-0087.

General description of collection: The Reports of Deposits information collection comprises the Report of Deposits and Vault Cash (FR 2900) and the Report of Foreign (Non-U.S.) Currency Deposits (FR 2915). The FR 2900 collects information on select deposits and vault cash from depository institutions. The FR 2915 collects the weekly average amount outstanding of deposits denominated in foreign (non-U.S.) currencies held at U.S. offices of depository institutions that are included in the FR 2900.

Frequency: Weekly; quarterly.

Respondents: Depository institutions.

Total estimated number of respondents: 994; 111.

Estimated average hours per response: 1.14; 0.55.

Total estimated annual burden hours: 59,168.¹

¹ More detailed information regarding this collection, including more detailed burden estimates, can be found in the OMB Supporting Statement posted at https://www.federalreserve.gov/apps/reportingforms/home/review. On the page displayed at the link, you can find the OMB Supporting Statement by referencing the collection identifier, FR 2900, FR 2915.

Current actions: On August 18, 2023, the Board published a notice in the Federal Register (88 FR 56622) requesting public comment for 60 days on the extension, without revision, of the Reports of Deposits collection. The comment period for this notice expired on October 17, 2023. The Board did not receive any comments.

Board of Governors of the Federal Reserve System, November 29, 2023.
Michele Taylor Fennell,
Deputy Associate Secretary of the Board.

[FR Doc. 2023-26571 Filed 12-1-23; 8:45 am]

BILLING CODE 6210-01-P